DEPARTMENT OF COMMERCE

International Trade Administration

[A-570-863]

Honey From the People's Republic of China: Final Rescission of the New Shipper Review and Final Results of the Administrative Review; 2015-2016

AGENCY: Enforcement and Compliance, International Trade Administration, Department of Commerce

SUMMARY: On July 7, 2017, The Department of Commerce (Commerce) published the Preliminary Rescission and Preliminary Results of the aligned 2015-2016 new shipper review and 2015-2016 administrative review of the antidumping duty order on honey from the People's Republic of China (China), covering the period December 1, 2015, through November 30, 2016. We gave interested parties an opportunity to comment on the Preliminary Rescission and Preliminary Results. After analyzing interested parties' comments, we made no changes for the final results of these reviews. The final antidumping duty margins for these reviews are listed in the “Final Results of Reviews” section below.

DATES: Applicable January 9, 2018.

FOR FURTHER INFORMATION CONTACT: Carrie Bethea, AD/CVD Operations, Office V, Enforcement and Compliance, International Trade Administration, U.S. Department of Commerce, 1401 Constitution Avenue NW, Washington, DC 20230; telephone: (202) 482-1491.

SUPPLEMENTARY INFORMATION:

Background

On July 7, 2017, Commerce published its Preliminary Rescission and Preliminary Results,¹ and gave parties an opportunity to comment. For events subsequent to the Preliminary Rescission and Preliminary Results, see the accompanying Issues and Decision Memorandum. On October 30, 2017,² in accordance with section 751(a)(3)(A) of the Tariff Act of 1930, as amended (Act), Commerce extended the deadline for issuing the final results by 60 days until January 3, 2017.

¹ See Honey from the People's Republic of China: Preliminary Rescission of the New Shipper Review and Preliminary Results of the Administrative Review; 2015-2016, 82 FR 31557 (July 7, 2017) (Preliminary Rescission and Preliminary Results).

² See Memorandum, “Extension of Deadline for Final Results of the 2015-2016 Antidumping Duty New Shipper Review and Final Results of the 2015-2016 Antidumping Duty Administrative Review,” dated October 30, 2017.

Scope of the Order

The product covered by the order is honey. For a complete description of the scope of this order, see the accompanying Issues and Decision Memorandum.³

³ See Memorandum, “Issues and Decision Memorandum for the Final Results of the 2015-2016 Antidumping Duty New Shipper Review and Final Results of the 2015-2016 Administrative Review: Honey from the People's Republic of China,” dated concurrently with these results and hereby adopted by this notice. (Issues and Decision Memorandum).

Analysis of Comments Received

All issues raised in the case and rebuttal briefs by parties to this administrative review and new shipper review are addressed in the Issues and Decision Memorandum.⁴ In the Appendix to this notice, we have provided a list of the issues raised by parties. The Issues and Decision Memorandum is a public document and is on file electronically via Enforcement and Compliance's Antidumping and Countervailing Duty Centralized Electronic Service System (ACCESS). ACCESS is available to registered users at http://access.trade.gov and in Commerce's Central Records Unit, room B8024 of the main Department of Commerce building. In addition, a complete version of the Issues and Decision Memorandum can be accessed directly on the internet at http://enforcement.trade.gov/frn/. The signed Issues and Decision Memorandum and the electronic versions of the Issues and Decision Memorandum are identical in content.

⁴ See Issues and Decision Memorandum.

Separate Rates

In the Preliminary Rescission and Preliminary Results, Commerce determined that Shanghai Sunbeauty Trading Co., Ltd. (Sunbeauty) did not meet the criteria for separate rate status.⁵ After the Preliminary Results, Sunbeauty provided a submission of new factual information, which included U.S. Customs and Border Protection (CBP) entry documentation.⁶ However, Commerce has determined that Sunbeauty still failed to demonstrate its eligibility for a separate rate.⁷ Accordingly, Sunbeauty continues to be considered as part of the China-wide entity.

⁵ See Preliminary Rescission, and accompanying Preliminary Decision Memorandum at 10-11.

⁶ See Sunbeauty New Factual Submission at 2-4.

⁷ See accompanying Issues and Decision Memorandum.

New Shipper Review

In the Preliminary Rescission and Preliminary Results, Commerce determined that Jiangsu Runchen Agricultural/Sideline Foodstuff Co., Ltd. (Jiangsu Runchen) failed to provide documents needed to determine whether its sales during the POR were bona fide sales; accordingly, Commerce preliminarily rescinded the NSR. As explained in the Preliminary Rescission and Preliminary Results, section 751(a)(2)(B)(iv) of the Act requires that any weighted average dumping margin determined in a NSR must be based on bona fide sales. Jiangsu Runchen did not provide a timely response to Commerce's C/D questionnaire for Commerce to examine if it had bona fide sales during the POR and requested an untimely extension to submit its C/D questionnaire response. However, we denied the request as it failed to meet the “extraordinary circumstances” standard. Having found that it could not conduct the required bona fide analysis and, thus, could not rely on Jiangsu Runchen's sales to calculate a dumping margin, Commerce preliminarily rescinded the NSR. Jiangsu Runchen did not comment on the Preliminary Rescission and Preliminary Results.

With no new information on the record, Commerce continues to find that it cannot conduct the required bona fide analysis and, therefore, cannot rely on Jiangsu Runchen's sales to calculate a dumping margin. Accordingly, Commerce is rescinding the new shipper with respect to Jiangsu Runchen.

Final Results of New Shipper Review and Administrative Review

In making our findings, because Sunbeauty was unable to provide evidence of a suspended entry of subject merchandise into the United States during the POR and is thus ineligible to receive a separate rate, we are treating Sunbeauty as part of the China-wide entity, the rate for which is $2.63 per kilogram. Furthermore, because Commerce rescinded the review with respect to Jiangsu Runchen, the company remains a part of the China-wide entity. For a full description of the methodology underlying our final conclusions, see the accompanying Issues and Decision Memorandum.

Duty Assessment Rates

Pursuant to 19 CFR 351.212(b), Commerce will determine, and the U.S. Customs and Border Protection (CBP) shall assess, antidumping duties on all appropriate entries. Commerce intends to issue assessment instructions to CBP 15 days after the publication of the final results of this new shipper review and administrative review. We will instruct CBP to liquidate entries of subject merchandise from the China-wide entity at the China-wide rate.

Cash Deposit Requirements

The following cash deposit requirements will be effective upon publication of the notice of the final results of this administrative review and new shipper review for all shipments of the subject merchandise entered, or withdrawn from warehouse, for consumption on or after the publication date, as provided for by section 751(a)(2)(C) of the Act: (1) For subject merchandise exported by Jiangsu Runchen and Sunbeauty, the cash deposit rate will continue to be the China-wide rate (i.e., $2.63 per kilogram); (2) for previously investigated or reviewed China and non-China exporters not listed above that have separate rates, the cash deposit rate will continue to be the exporter-specific rate published for the most recently completed period; (3) for all China exporters of subject merchandise that have not been found to be entitled to a separate rate, the cash deposit rate will be the China-wide rate of $2.63 per kilogram; and, (4) for all non-China exporters of subject merchandise which have not received their own rate, the cash deposit rate will be the rate applicable to the China exporter(s) that supplied that non-China exporter. These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a final reminder to parties subject to administrative protective order (APO) in this administrative review of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Commerce is issuing and publishing these final results in accordance with sections 751(a)(1), 751(a)(2)(B), and 777(i)(l) of the Act, and 19 CFR 351.214 and 19 CFR 351.221(b)(4).

Dated: January 3, 2018.
P. Lee Smith,
Deputy Assistant Secretary for Policy and Negotiations.

Appendix—List of Topics Discussed in the Issues and Decision Memorandum

1. Summary

2. List of Comments

3. Background

4. Scope of the Order

5. Discussion of the Issues

a. Correction of Draft Liquidation Instructions for U.S. Customs and Border Protection (CBP) in the NSR

b. Commerce's Representation of Sunbeauty's Request Regarding the Treatment of its Entries

c. Commerce's Practice of Partially Granting Sunbeauty's Extension Requests

d. Treatment of Sunbeauty as Part of the China-wide Entity

6. Recommendation

[FR Doc. 2018-00186 Filed 1-8-18; 8:45 am]

BILLING CODE 3510-DS-P